DEPARTMENT OF ENERGY

Federal Energy Regulatory Commission

Combined Notice of Filings #1

Take notice that the Commission received the following electric rate filings:

Docket Numbers: ER19-2134-000.

Applicants: Wheelabrator Shasta Energy Company Inc.

Description: Supplemental to June 14, 2019 Wheelabrator Shasta Energy Company Inc. tariff filing.

Filed Date: 7/24/19.

Accession Number: 20190724-5142.

Comments Due: 5 p.m. ET 8/14/19.

Docket Numbers: ER19-2329-001.

Applicants: Midcontinent Independent System Operator, Inc., Ameren Illinois Company.

Description: Tariff Amendment: 2019-07-29_SA 2880 Att A-Proj Spec No. 4 WVPA-EnerStar-West Union Substitute to be effective 6/3/2019.

Filed Date: 7/29/19.

Accession Number: 20190729-5090.

Comments Due: 5 p.m. ET 8/19/19.

Docket Numbers: ER19-2486-000.

Applicants: Imperial Valley Solar 2, LLC.

Description: § 205(d) Rate Filing: COC LGIA CTA Filing to be effective 7/30/2019.

Filed Date: 7/29/19.

Accession Number: 20190729-5126.

Comments Due: 5 p.m. ET 8/19/19.

Docket Numbers: ER19-2487-000.

Applicants: Imperial Valley Solar 2, LLC.

Description: § 205(d) Rate Filing: COC New Substation Filing to be effective 7/30/2019.

Filed Date: 7/29/19.

Accession Number: 20190729-5127.

Comments Due: 5 p.m. ET 8/19/19.

Docket Numbers: ER19-2489-000.

Applicants: GridLiance High Plains LLC.

Description: Compliance filing: GHP eTariff Order No. 842 Revisions to be effective 5/15/2018.

Filed Date: 7/30/19.

Accession Number: 20190730-5000.

Comments Due: 5 p.m. ET 8/20/19.

Docket Numbers: ER19-2490-000.

Applicants: Midcontinent Independent System Operator, Inc.

Description: § 205(d) Rate Filing: 2019-07-30_SA 3336 ATC-Waterloo Utilities D-TIA to be effective 9/29/2019.

Filed Date: 7/30/19.

Accession Number: 20190730-5029.

Comments Due: 5 p.m. ET 8/20/19.

Docket Numbers: ER19-2491-000.

Applicants: Interstate Power and Light Company.

Description: § 205(d) Rate Filing: Concurrence to Wholesale Distribution Service Agreement (George) to be effective 9/1/2019.

Filed Date: 7/30/19.

Accession Number: 20190730-5058.

Comments Due: 5 p.m. ET 8/20/19.

Docket Numbers: ER19-2492-000.

Applicants: PacifiCorp.

Description: § 205(d) Rate Filing: BPA Construction Agmt—Conversion Ross-Lex-Swift Rev 2 to be effective 9/29/2019.

Filed Date: 7/30/19.

Accession Number: 20190730-5060.

Comments Due: 5 p.m. ET 8/20/19.

Docket Numbers: ER19-2493-000.

Applicants: Arizona Public Service Company.

Description: § 205(d) Rate Filing: Rate Schedule No. 217 to be effective 10/1/2019.

Filed Date: 7/30/19.

Accession Number: 20190730-5063.

Comments Due: 5 p.m. ET 8/20/19.

Docket Numbers: ER19-2494-000.

Applicants: Arizona Public Service Company.

Description: § 205(d) Rate Filing: Revisions to Service Agreement Nos. 218 and 335 to be effective 7/1/2019.

Filed Date: 7/30/19.

Accession Number: 20190730-5079.

Comments Due: 5 p.m. ET 8/20/19.

Docket Numbers: ER19-2495-000.

Applicants: Wessington Springs Wind, LLC.

Description: Baseline eTariff Filing: Wessington Springs Wind, LLC Application for MBR Authority to be effective 9/29/2019.

Filed Date: 7/30/19.

Accession Number: 20190730-5090.

Comments Due: 5 p.m. ET 8/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2019.
Nathaniel J. Davis, Sr.,
Deputy Secretary.

[FR Doc. 2019-16621 Filed 8-2-19; 8:45 am]

BILLING CODE 6717-01-P